MERIT SYSTEMS PROTECTION BOARD

Agency Information Collection Activities; Proposed Collection

AGENCY: Merit Systems Protection Board.

ACTION: Notice.

SUMMARY: In compliance with the Paperwork Reduction Act (44 U.S.C. 3501 et. seq.), this notice announces that the U.S. Merit Systems Protection Board (MSPB) request for a three year reinstatement of its expired Generic Clearance Request for Voluntary Customer Surveys Under Executive Order 12862 “Setting Customer Service Standards” has been forwarded to the Office of Management and Budget (OMB) for review and comment.

In this regard, we are soliciting comments on the public reporting burden. The reporting burden for the collection of information on this form is estimated to vary from 10 minutes to 30 minutes per response, with an average of 15 minutes, including time for reviewing instructions, searching existing data sources, gathering and maintaining the data needed, and completing and reviewing the collection of information.

Estimated Annual Reporting Burden
5 CFR section | Annual number of respondents | Frequency per response | Total annual responses | Hours per response (average) | Total hours
1201 and 1209 | 5,000 | 1 | 3,750 | .25 | 937.5

Send comments regarding the burden estimate, or any other aspect of the information collection, including suggestions for reducing the burden, to the address shown below. Please refer to OMB Control No. 3124-0012 in any correspondence.

DATES: Comments must be received on or before February 22, 2000.

ADDRESSES: Comments concerning the paperwork burden should also be addressed to Mr. Bruce Mayor, Merit Systems Protection Board, 1120 Vermont Ave., NW., Washington, DC 20419 or by calling (202) 653-8900 and to the Office of Information and Regulatory Affairs, Office of Management and Budget, Attention: Desk Officer for MSPB, 725 17th Street NW, Washington, DC 20503.

Dated: January 13, 2000.
Robert E. Taylor,
Clerk of the Board.

[FR Doc. 00-1256 Filed 1-19-00; 8:45 am]

BILLIING CODE 7400-01-U